ENVIRONMENTAL PROTECTION AGENCY

[FRL-9302-7]

Science Advisory Board Staff Office; Notification of a Public Teleconference of the Chartered Science Advisory Board

AGENCY: Environmental Protection Agency (EPA).

ACTION: Notice.

SUMMARY: The EPA Science Advisory Board (SAB) Staff Office announces a public teleconference of the chartered SAB on June 6, 2011 to conduct a quality review of a draft SAB report entitled “SAB Review of EPA's Reanalysis of Key Issues Related to Dioxin Toxicity and Response to NAS Comments.”

DATES: The public teleconference will be held on June 6, 2011, from 12 p.m. to 4 p.m. (Eastern Time).

ADDRESSES: The public teleconference will be conducted by telephone only.

FOR FURTHER INFORMATION CONTACT: Any member of the public wishing to obtain general information concerning the public teleconference may contact Ms. Stephanie Sanzone, Designated Federal Officer (DFO), EPA Science Advisory Board via e-mail at sanzone.stephanie@epa.gov, telephone/voice mail (202) 564-2067, or fax (202) 565-2098. General information concerning the EPA Science Advisory Board can be found on the EPA Web site at http://www.epa.gov/sab.

SUPPLEMENTARY INFORMATION: The SAB was established pursuant to the Environmental Research, Development, and Demonstration Authorization Act (ERDAA), codified at 42 U.S.C. 4365, to provide independent scientific and technical advice to the EPA Administrator on the technical basis for Agency positions and regulations. The SAB is a Federal Advisory Committee chartered under the Federal Advisory Committee Act (FACA), 5 U.S.C., App. 2. Pursuant to FACA and EPA policy, notice is hereby given that the SAB will hold a public teleconference to conduct a quality review of a draft report entitled “SAB Review of EPA's Reanalysis of Key Issues Related to Dioxin Toxicity and Response to NAS Comments.” The SAB will comply with the provisions of FACA and all appropriate SAB Staff Office procedural policies.

Background: The SAB was asked to review and provide advice to EPA on a draft report, entitled “EPA's Reanalysis of Key Issues Related to Dioxin Toxicity and Response to NAS Comments.” To conduct this review, the SAB Staff Office requested public nominations of experts (73 FR 61114) and formed the ad hoc SAB Dioxin Review Panel. The Panel held face-to-face public meetings on July 13-15, 2010 (75 FR 28805) and October 27-29, 2010 (75 FR 57779), and follow-up public teleconference meetings on March 1 and March 2, 2011 (76 FR 6784) to review EPA's draft document. The SAB will conduct a quality review of the Panel's draft report, “SAB Review of EPA's Reanalysis of Key Issues Related to Dioxin Toxicity and Response to NAS Comments.” Background information about this SAB advisory activity can be found on the SAB Web site at http://yosemite.epa.gov/sab/sabproduct.nsf/fedrgstr_activites/Dioxin%20Reasst%20-%202008-2011?OpenDocument.

Availability of Meeting Materials: The agenda and other materials in support of the teleconference will be placed on the SAB Web site at http://www.epa.gov/sab in advance of the teleconference.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Input from the public to the SAB will have the most impact if it provides specific scientific or technical information or analysis for SAB panels to consider or if it relates to the clarity or accuracy of the technical information. Members of the public wishing to provide comment should contact the Designated Federal Officer directly. Oral Statements: Individuals or groups requesting an oral presentation will be limited to five minutes. Those interested in being placed on the public speakers list for the June 6, 2011, teleconference should contact Ms. Sanzone at the contact information provided above no later than May 27, 2011. Written Statements: Written statements should be supplied to the DFO via e-mail at the contact information noted above by May 27, 2011, for the teleconference so that the information may be made available to the Panel members for their consideration. Written statements should be supplied in one of the following electronic formats: Adobe Acrobat PDF, MS Word, MS PowerPoint, or Rich Text files in IBM-PC/Windows 98/2000/XP format. It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Ms. Sanzone at (202) 564-2067 or sanzone.stephanie@epa.gov. To request accommodation of a disability, please contact Ms. Sanzone preferably at least ten days prior to the teleconference to give EPA as much time as possible to process your request.

Dated: April 26, 2011.
Anthony Maciorowski,
Deputy Director, EPA Science Advisory Staff Office.

[FR Doc. 2011-11129 Filed 5-5-11; 8:45 am]

BILLING CODE 6560-50-P